ELECTION ASSISTANCE COMMISSION

Sunshine Act Meeting Notice

AGENCY: U.S. Election Assistance Commission.

ACTION: Notice of Public Meeting Agenda.

DATE & TIME: Thursday, September 8, 2016, (1:00-4:00 p.m.—EDT).

PLACE: 1335 East West Highway (First Floor Conference Room) Silver Spring, MD 20910.

AGENDA: Commissioners will meet to announce the winners of a national competition for the top election worker best practices from around the country. Commissioners will hear from state and local election officials and other experts to discuss: (1) Successful practices on election administration and management of the voter registration process; (2) activities regarding National Voter Registration Day; and (3) election system security.

STATUS: This meeting will be open to the public.

PERSON TO CONTACT FOR INFORMATION: Bryan Whitener, Telephone: (301) 563-3961.

Bryan Whitener,
Director of Communications and Clearinghouse, U.S. Election Assistance Commission.

[FR Doc. 2016-21441 Filed 9-1-16; 4:15 pm]

BILLING CODE 6820-KF-P